DEPARTMENT OF HOMELAND SECURITY

Coast Guard

[Docket No. USCG-2021-0824]

National Maritime Security Advisory Committee

AGENCY: U.S. Coast Guard, Department of Homeland Security.

ACTION: Notice of Federal Advisory Committee teleconference meeting.

SUMMARY: The National Maritime Security Advisory Committee (Committee) will meet via teleconference, to review and discuss matters relating to national maritime security. Specifically, the Coast Guard intends to present and issue a task focused on improving and enhancing the sharing of information related to cybersecurity risks that may cause a transportation security incident. This teleconference will be open to the public.

DATES:

Meeting: The Committee will meet by teleconference on Wednesday, December 15, 2021 from 1 p.m. until 3 p.m. Eastern Standard Time (EST). This teleconference may close early if all business is finished.

Comments and supporting documentation: To ensure your comments are received by Committee members before the teleconference, submit your written comments no later than December 7, 2021.

ADDRESSES: To join the teleconference or to request special accommodations, contact the individual listed in the FOR FURTHER INFORMATION CONTACT section no later than 1 p.m. EST on December 7, 2021, to obtain the needed information. The number of teleconference lines are limited and will be available on a first-come, first-served basis.

For information on services for individuals with disabilities, or to request special assistance, contact the individual listed in FOR FURTHER INFORMATION CONTACT below as soon as possible.

Instructions: You are free to submit comments at any time, including orally at the teleconference as time permits, but if you want Committee members to review your comment before the teleconference, please submit your comments no later than December 7, 2021. We are particularly interested in comments on the issues in the “Agenda” section below. We encourage you to submit comments through Federal eRulemaking Portal at https://regulations.gov. If your material cannot be submitted using https://regulations.gov, call or email the individual in the FOR FURTHER INFORMATION CONTACT section of this document for alternate instructions. You must include the docket number [USCG-2021-0824]. Comments received will be posted without alteration at https://www.regulations.gov including any personal information provided. You may wish to view the Privacy and Security Notice available on the homepage of https://www.regulations.gov and DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov, and can be viewed by following that website's instructions. Additionally, if you go to the online docket and sign-up for email alerts, you will be notified when comments are posted.

FOR FURTHER INFORMATION CONTACT: Mr. Ryan Owens, Alternate Designated Federal Officer of the National Maritime Security Advisory Committee, 2703 Martin Luther King Jr. Avenue SE, Washington, DC 20593, Stop 7581, Washington, DC 20593-7581; telephone 202-302-6565 or email ryan.f.owens@uscg.mil.

SUPPLEMENTARY INFORMATION: Notice of this meeting is in compliance with the Federal Advisory Committee Act, (5 U.S.C., Appendix). The Committee was established on December 4, 2018, by § 601 of the Frank LoBiondo Coast Guard Authorization Act of 2018, Public Law 115-282, 132 Stat. 4190. The National Maritime Security Advisory Committee provides advice, consults with, and makes recommendations to the Secretary of Homeland Security, via the Commandant of the Coast Guard, on matters relating to national maritime security.

Agenda

(1) Call to Order.

(2) Introduction.

(3) Designated Federal Official Remarks.

(4) Roll call of Committee members and determination of quorum.

(5) Presentation of task. The Coast Guard will present the following task and the Committee will determine if they will accept the tasks and form working groups:

a. Recommendations on Cybersecurity Information Sharing.

(6) Public comment period.

(7) Closing Remarks/plans for next meeting.

(8) Adjournment of meeting.

A copy of all meeting documentation will be available at https://homeport.uscg.mil/NMSAC by December 13, 2021. Alternatively, you may contact Mr. Ryan Owens as noted in the FOR FURTHER INFORMATION section above.

There will be a public comment period at the end of the meeting. Speakers are requested to limit their comments to 3 minutes. Please note that the public comment period may end before the period allotted, following the last call for comments. Contact the individual listed in the FOR FURTHER INFORMATION CONTACT section above to register as a speaker.

Dated: November 22, 2021.
Wayne R. Arguin, Jr.
Captain, U.S. Coast Guard, Director of Inspections and Compliance.

[FR Doc. 2021-25790 Filed 11-24-21; 8:45 am]

BILLING CODE 9110-04-P